FEDERAL COMMUNICATIONS COMMISSION

47 CFR Part 73

[GN Docket No. 12-268; DA 15-1238]

Media Bureau Finalizes Reimbursement Form for Submission to OMB and Adopts Catalog of Expenses

AGENCY: Federal Communications Commission.

ACTION: Final action; requirements and procedures.

SUMMARY: In this document, the Media Bureau adopts the following a final catalog of expenses; a procedure whereby reimbursement payments will be disbursed via the agency's internal vendor payment system; a procedural requirement that the Reimbursement Form, with supporting cost documentation, must be submitted each time an entity makes a request for reimbursement from the Fund; and a decision that cost documentation, as well as the name, address, and other identifying information pertaining to vendors, will not be made publicly available.

DATES: November 30, 2015.

ADDRESSES: A copy of any comments on the Paperwork Reduction Act information collection requirements contained herein should be submitted to Cathy Williams, Federal Communications Commission, 445 12th Street SW., Washington, DC 20554, or by email to PRA@fcc.gov and to Cathy.Williams@fcc.gov.

FOR FURTHER INFORMATION CONTACT: Pamela Gallant, Policy Division, Media Bureau, FCC, 202-418-0614 or email Pamela.Gallant@fcc.gov.

SUPPLEMENTARY INFORMATION: This is a summary of the Commission's document, DA 15-1238; GN Docket No. 12-268, released October 30, 2015. The full text of this document is available for inspection and copying during normal business hours in the FCC Reference Center (Room CY-A257), 445 12th Street SW., Washington, DC 20554. The full text may also be downloaded at: www.fcc.gov.

The Media Bureau adopts the final catalog of expenses, embedded in FCC Form 2100, Schedule 399, to be used by broadcasters and MVPDs seeking reimbursement from the TV Broadcaster Relocation Fund following the Incentive Auction. The costs included in the catalog are not intended to be an exhaustive list of reimbursable expenses, but rather represent those expenses that relocated broadcasters and MVPDs will most commonly incur as a result of the channel repack. Entities can submit expenses not listed in the catalog using the “other” catch-all categories found throughout the catalog. The Commission will send FCC Form 2100, Schedule 399 to the Office of Management and Budget for final approval of the information collection requirement contained therein under the Paperwork Reduction Act. The final version of the Reimbursement Form, FCC Form 2100, Schedule 399 (Reimbursement Form or Form), including the embedded expense catalog, will be submitted to the Office of Management and Budget for approval under the Paperwork Reduction Act.

In addition, the Media Bureau adopts a process for making payments from the TV Broadcaster Relocation Fund via the Commission's internal vendor payment system, rather than requiring recipients to establish individual accounts with the U.S. Treasury, as had previously been announced. The Media Bureau found that this change would mitigate against waste, fraud and abuse by saving Commission resources and providing the agency with more control over the creation of payment accounts.

The Media Bureau also adopts a process wherein a broadcaster or MVPD must submit information on the Reimbursement Form, with supporting cost documentation, each time it makes a request for reimbursement from the Fund, not only at the beginning and end of the reimbursement period.

Finally, after seeking comment on which data points, if any, should be considered confidential or nor subject to public disclosure, the Media Bureau concludes that cost documentation submitted by entities seeking reimbursement for actual costs (for example, invoices), as well as the name, address, and other identifying information pertaining to the vendor providing equipment or service to a specific broadcaster or MVPD, will not be made publicly available.

The Commission will send a copy of this document in a report to be sent to Congress and the Government Accountability Office pursuant to the Congressional Review Act, see 5 U.S.C. 801(a)(1)(A).

Federal Communications Commission.
William T. Lake,
Chief, Media Bureau.

[FR Doc. 2015-29483 Filed 11-27-15; 8:45 am]

BILLING CODE 6712-01-P